DEPARTMENT OF THE TREASURY

Office of Foreign Assets Control

Notice of OFAC Sanctions Action

AGENCY: Office of Foreign Assets Control, Treasury.

ACTION: Notice.

SUMMARY: The Department of the Treasury's Office of Foreign Assets Control (OFAC) is updating the Federal Register notice for the entry of one person on OFAC's Specially Designated Nationals and Blocked Persons List based on OFAC's determination that one or more applicable legal criteria were satisfied. All property and interests in property subject to U.S. jurisdiction of this person are blocked, and U.S. persons are generally prohibited from engaging in transactions with the person.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Action(s)

On August 15, 2019, OFAC determined that the property and interests in property subject to U.S. jurisdiction of the following person are blocked under the relevant sanctions authorities listed below. OFAC is updating the Federal Register notice for the entry of one person on OFAC's Specially Designated National and Blocked Persons List in order to identify the bases for designation for the individual listed below.

Individual

1. OLENGA, Francois (Latin: OLENGA, François) (a.k.a. OKUNJI, Francois (Latin: OKUNJI, François); a.k.a. OLENGA TATE, Francois; a.k.a. OLENGA TETE, Francois (Latin: OLENGA TETE, François); a.k.a. OTSHUNDI, Francois (Latin: OTSHUNDI, François)), Kinshasa, Congo, Democratic Republic of the; DOB 09 Oct 1948; alt. DOB 10 Sep 1948; alt. DOB 10 Jul 1949; POB Kindu, Maniema, Democratic Republic of the Congo; nationality Congo, Democratic Republic of the; citizen Congo, Democratic Republic of the; Gender Male; General; Chef de la Maison Militaire; Head of the Military House of the President (individual) [DRCONGO].

Designated pursuant to Section 1(a)(ii)(C)(2) of Executive Order 13671 of July 8, 2014, “Taking Additional Steps to Address the National Emergency With Respect to the Conflict in the Democratic Republic of the Congo” for being responsible for or complicit in, or having engaged in, directly or indirectly, actions or policies that undermine democratic processes or institutions in the Democratic Republic of the Congo.

Dated: August 15, 2019.
Andrea Gacki,
Director, Office of Foreign Assets Control.

[FR Doc. 2019-17923 Filed 8-19-19; 8:45 am]

BILLING CODE 4810-AL-P